DEPARTMENT OF THE INTERIOR

National Park Service

[NPS-WASO-NAGPRA-NPS0024017; PPWOCRADN0-PCU00RP14.R50000]

Notice of Inventory Completion: University of Michigan, Ann Arbor, MI

AGENCY: National Park Service, Interior.

ACTION: Notice.

SUMMARY: The University of Michigan has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the University of Michigan. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the University of Michigan at the address in this notice by October 25, 2017.

ADDRESSES: Dr. Ben Secunda, NAGPRA Project Manager, University of Michigan Office of Research, 4080 Fleming Building, 503 Thompson Street, Ann Arbor, MI 48109-1340, telephone (734) 647-9085, email bsecunda@umich.edu.

SUPPLEMENTARY INFORMATION: Notice is here given in accordance with the Native American Graves Protection and Repatriation Act (NAGPRA), 25 U.S.C. 3003, of the completion of an inventory of human remains and associated funerary objects under the control of the University of Michigan, Ann Arbor, MI. The human remains were removed from Saginaw County, MI.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by the University of Michigan Museum of Anthropological Archaeology (UMMAA) professional staff in consultation with representatives of the Bay Mills Indian Community, Michigan; Chippewa Cree Indians of the Rocky Boy's Reservation, Montana; Grand Traverse Band of Ottawa and Chippewa Indians, Michigan; Keweenaw Bay Indian Community, Michigan; Lac Vieux Desert Band of Lake Superior Chippewa Indians of Michigan; Saginaw Chippewa Indian Tribe of Michigan; and the Sault Ste. Marie Tribe of Chippewa Indians, Michigan.

Additional requests for consultation were sent to the Bad River Band of the Lake Superior Tribe of Chippewa Indians of the Bad River Reservation, Wisconsin; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Minnesota Chippewa Tribe, Minnesota (Six component reservations: Bois Forte Band (Nett Lake), Fond du Lac Band, Grand Portage Band, Leech Lake Band, Mille Lacs Band, White Earth Band); Red Cliff Band of Lake Superior Chippewa Indians of Wisconsin; Red Lake Band of Chippewa Indians, Minnesota; Sac & Fox Nation of Missouri in Kansas and Nebraska; Sac & Fox Nation, Oklahoma; Sac & Fox Tribe of the Mississippi in Iowa; Sokaogon Chippewa Community, Wisconsin; St. Croix Chippewa Indians of Wisconsin; and the Turtle Mountain Band of Chippewa Indians of North Dakota.

Hereafter, all Tribes listed in this section are referred to as “The Consulted and Invited Tribes.”

History and Description of the Remains

In 1970, human remains representing, at minimum, 20 individuals were removed from the Bugai site (20SA215) in Saginaw County, MI. Contract workers encountered human remains while excavating sand from private property near Interstate-75 in Bridgeport Township. After workers completed removing the sand, amateur archeologists Leo Purple and Arthur Graves conducted a salvage excavation at the site from late-winter through the fall of 1970. Purple had surface collected the site for several years prior to the excavation. Primary and secondary burials were noted at the site. The majority of the burials excavated were bundle burials, along with multiple objects. Purple and Graves divided the site collections, donating some to the UMMAA in 1976, and some to the Chippewa Nature Center (CNC) in Midland, MI, in 1974. In 2006, the CNC donated human remains and objects from the Bugai site to the UMMAA. The human remains collected from the site include 1 adult, over 35 years old, possibly male; 1 adult, age indeterminate, possibly female; 1 child, 7.5-12.5 years old; 1 adult, age and sex indeterminate; 1 adult, age and sex indeterminate; 1 child, 4-8 years old; 1 adult, over 30 years old, possibly male; 1 adolescent/young adult, 16-20 years old, possibly female; 1 adult, over 35 years old, male; 1 child, 2-4 years old; 1 adult, 23-44 years old, possibly male; 1 adult, over 30 years old, male; 1 adult, over 35-45 years old, female; 1 adult, over 40 years old, possibly female; 1 child, 3-5 years old; 1 adult, 35-45 years old, possibly female; 1 adult, age indeterminate, possibly male; 1 juvenile, age indeterminate; 1 child, 5-9 years old; and 1 child, 2-4 years old. One lot of DNA extractions, taken from human remains in this collection between 1996 and 2006, will also be included in this transfer. The human remains are believed to date to the Early Late Woodland Period (A.D. 500-1100) based on diagnostic artifacts associated with the burials and mortuary treatment. No known individuals were identified. The 106 associated funerary objects present are 1 lot of 1 Jack's Reef projectile point; 1 lot of 1 biface; 1 lot of 2 lithic bifaces; 1 lot of 2 lithic blade flakes; 1 lot of 1 copper awl with antler handle; 1 lot of 3 unworked carnivore teeth; 1 lot of 3 antler needle fragments and 1 modern glue reconstruction fragment; 1 lot of 1 reconstructed possibly perforated turtle carapace with possible perforation and 1 reconstructed turtle carapace fragment; 1 lot of 1 earthenware body sherd; 1 lot of 1 small pebble; 1 lot of 5 unworked animal bone fragments; 1 lot of yellow ochre concretion; 1 lot of 1 double-ended slate chisel; 1 lot of shell bead necklace restrung on modern cord and loose shell beads; 1 lot of red ochre and sand; 1 lot of 3 unworked animal bone fragments; 1 lot of 15 white tubular shell beads plus many small bead fragments; 1 lot of 1 possible scraper; 1 lot of 1 round possible scraper; 1 lot of 1 copper awl; 1 lot of 1 copper awl; 1 lot of 1 copper awl; 1 lot of 1 platform clay pipe with modern reproduction foot; 1 lot of 1 stone pipe with modern clay reconstruction; 1 lot of 1 earthenware elbow pipe; 1 lot of 1 reconstructed Wayne cord-impressed vessel; 1 lot of 1 reconstructed Wayne cord-impressed or Vas Dentate vessel; 1 lot of 1 large lithic bifacial blade; 1 lot of 2 corner-notched lithic drills; 1 lot of 1 modified shell fragment, possibly a pendant; 1 lot of 1 fine sandy soil sample with charcoal and tiny calcined bone inclusions; 1 lot of 1 possible abrader; 1 lot of yellow ochre and fine sandy soil; 1 lot of 1 stone celt with soil/ochre; 1 lot of 1 copper awl with antler handle; 1 lot of 1 lithic scraper; 1 lot of 8 lithic debitage fragments; 1 lot of 1 lithic scraper; 1 lot of 1 slate abrader; 1 lot of 7 unworked shell fragments; 1 lot of 2 lithic bifaces; 1 lot of 4 notched projectile points; 1 lot of 12 antler tine fragments, likely pressure flakers; 1 lot of 4 unworked rodent incisor fragments, possibly beaver; 1 lot of 4 earthenware body sherds; 1 lot of 16 red ochre concretions; 3 lots soil with red ochre; 1 lot of 1 lithic biface, possibly a scraper; 1 lot of 9 unworked animal bone fragments; 1 lot of 3 shell beads, 11 shell bead fragments, 1 charcoal fragment, 2 small stones; 1 lot of 1 reconstructed Vas Dentate vessel; 1 lot of 1 stone celt; 1 lot of 1 worked slate fragment, likely a pendant; 1 lot of 5 corner-notched projectile points; 1 lot of 2 projectile point fragments; 1 lot of 3 lithic flakes and 1 possible scraper; 1 lot of 2 projectile points; 1 lot of 1 thin stone celt; 1 lot of 3 triangular projectile points; 1 lot of 1 lithic flake; 1 lot of 1 retouched/utilized lithic flake; 1 lot of 1 edge-damaged lithic flake; 1 lot of 1 lithic biface fragment; 1 lot of 1 triangular lithic biface fragment; 1 lot of 1 retouched lithic flake; 1 lot of 1 geological sample identified as iron pyrite; 1 lot of 1 copper awl with antler handle; 1 lot of 2 modified antler fragments; 1 lot of 17 unworked rodent incisor fragments, likely beaver; 1 lot of 2 unworked turtle shell fragments; 1 lot of 1 sandstone platform pipe; 1 lot of 1 slab of igneous rock; 1 lot of 1 sandstone abrader; 1 lot of 1 possible fire-cracked rock; 1 lot of 6 rocks and 10 possible ochre concretions; 1 lot of 10 charcoal fragments plus many tiny fragments; 1 lot of 1 small, thin unworked stone; 1 lot of 1 lithic biface and 1 retouched flake; 1 lot of 16 lithic debitage fragments; 1 lot of 1 unworked clam shell fragment; 1 lot of 94 Wayne earthenware sherds; 1 lot of 55 Wayne earthenware sherds likely from same vessel; 1 lot of 13 unworked faunal long bone fragments; 1 lot of 1 small stone celt; 1 lot of 1 earthenware platform pipe; 1 lot of 1 sandstone abrader; 1 lot of 12 projectile points; 1 lot of 1 side-notched lithic drill; 1 lot of 13 triangular retouched flakes; 1 lot of 5 lithic debitage; 1 lot of 8 large antler billets and fragments; 1 lot of 1 unworked faunal metapodial fragment; 1 lot of 3 harpoon-style antler points; 1 lot of 1 carved antler tool and 1 hollowed faunal long bone fragment; 1 lot of 2 unworked animal bone fragments; 1 lot of 53 unworked turtle shell fragments, 6 small unworked animal bone fragments, and 1 rock; 1 lot of 1 earthenware sherd; 1 lot of 1 retouched flake and 1 small earthenware sherd; 1 lot of 1 small stone, possibly quartz, with ochre; 1 lot of 21 unworked rodent incisor fragments, likely beaver; 1 lot of 5 antler tool fragments, 1 unworked animal bone fragment, and 1 earthenware body sherd; 1 lot of 4 lithic debitage and 1 possibly retouched flake; 1 lot of 1 possible fire-cracked rock; and 1 lot of 1 quartzite stone, possibly debitage.

Determinations Made by the University of Michigan

Officials of the University of Michigan have determined that:

• Pursuant to 25 U.S.C. 3001(9), the human remains described in this notice are Native American based on cranial morphology, dental traits, accession documentation, and archeological context.

• Pursuant to 25 U.S.C. 3001(9), the human remains described in this notice represent the physical remains of 20 individuals of Native American ancestry.

• Pursuant to 25 U.S.C. 3001(3)(A), the 106 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Saginaw Chippewa Indian Tribe of Michigan.

• Treaties, Acts of Congress, or Executive Orders, indicate that the land from which the Native American human remains and associated funerary objects were removed is the aboriginal land of The Consulted and Invited Tribes.

• Pursuant to 43 CFR 10.11(c)(1), the disposition of the human remains and associated funerary objects may be to The Consulted and Invited Tribes.

Additional Requestors and Disposition

Representatives of any Indian Tribe or Native Hawaiian organization not identified in this notice that wish to request transfer of control of these human remains and associated funerary objects should submit a written request with information in support of the request to Dr. Ben Secunda, NAGPRA Project Manager, University of Michigan Office of Research, 4080 Fleming Building, 503 Thompson Street, Ann Arbor, MI 48109-1340, telephone (734) 647-9085, email bsecunda@umich.edu, by October 25, 2017. After that date, if no additional requestors have come forward, transfer of control of the human remains and associated funerary objects to The Consulted and Invited Tribes may proceed.

The University of Michigan is responsible for notifying The Consulted and Invited Tribes that this notice has been published.

Dated: August 15, 2017.
Sarah Glass,
Acting Manager, National NAGPRA Program.

[FR Doc. 2017-20382 Filed 9-22-17; 8:45 am]

BILLING CODE 4312-52-P